EXPORT-IMPORT BANK OF THE UNITED STATES

Sunshine Act Meeting; Notice of Open Special Meeting of the Board of Directors of the Export-Import Bank of the United States

TIME AND PLACE: Wednesday, September 12, 2001 at 8:00 AM. The meeting will be held at Ex-Im Bank in Room 1141, 811 Vermont Avenue, NW., Washington, DC 20571

AGENDA: Revised Economic Impact Procedures

PUBLIC PARTICIPATION: The meeting will be open to public participation.

FURTHER INFORMATION: For further information, contact: Office of the Secretary, 811 Vermont Avenue, NW., Washington, DC 20571, (Telephone No. 202-565-3957 or 3336).

Peter B. Saba,
General Counsel.

[FR Doc. 01-22845 Filed 9-07-01; 11:09 am]

BILLING CODE 6690-01-M